DEPARTMENT OF DEFENSE

Defense Acquisition Regulations System

48 CFR Chapter 2

Defense Federal Acquisition Regulation Supplement; Material Inspection and Receiving Report (DFARS Case 2009-D023)

AGENCY: Defense Acquisition Regulations System, Department of Defense (DoD).

ACTION: Final rule.

SUMMARY: DoD is issuing a final rule amending the Defense Federal Acquisition Regulation Supplement (DFARS), Appendix F, Material Inspection and Receiving Report, to incorporate new procedures for using the electronic Wide Area WorkFlow (WAWF) Receiving Report.

DATES: Effective date: September 20, 2011.

FOR FURTHER INFORMATION CONTACT: Mr. Julian Thrash, telephone 703-602-0310.

SUPPLEMENTARY INFORMATION:

I. Background

DoD published a proposed rule in the Federal Register (75 FR 56961) on September 17, 2010, to amend DFARS Appendix F, Material Inspection and Receiving Report, to provide new coverage on the use, preparation, and distribution of the electronic WAWF receiving report, which is the primary method for documenting acceptance of supplies and services and for electronic invoicing. The rule also addressed WAWF capability to provide the following:

• Item Unique Identification (IUID). When the clause at DFARS 252.211-7003, Item Identification and Valuation, is used in the contract and requires reporting of IUID data, WAWF captures the IUID data and forwards the data to the IUID registry after acceptance. WAWF may be used to report Unique Item Identifiers (UIIs) at the line item level and also UIIs embedded at the line item level.

• Radio Frequency Identification (RFID). When the clause at DFARS 252.211-7006, Radio Frequency Identification, is used in the contract, WAWF will capture the RFID information and forward the data to the receiving location.

Using WAWF is the only way a contractor can comply with the clause to furnish RFID data via an Advance Shipping Notice. Insertion of the new WAWF coverage into Appendix F necessitates relocating and renumbering existing coverage for use, preparation, and distribution of the DD Form 250 Material Inspection and Receiving Report, and the DD Form 250-1 Tanker/Barge Material Inspection and Receiving Report.

II. Discussion and Analysis

In response to the proposed rule, DoD received comments from five respondents. A discussion of the comments follows.

A. Revise F-103, WAWF RR and DD Form 250

Comment: Two respondents suggested changing the text at F-103(b)(2) for the transfer of Government property using the property transfer function. Another respondent recommended adding where training for the preparation of document types is available.

Response: These recommendations are incorporated into the final rule.

B. Limitation on the Quantity of Embedded Items in WAWF

Comment: A respondent asked if there was a limit on the quantity of embedded items at the line item level that may be reported in WAWF.

Response: A quantity limit of 100 embedded items currently exists in the software capability, however, this limit is subject to change in future versions of WAWF.

C. F-103(e)(2), Radio Frequency Identification (RFID)

Comment: A respondent suggested adding clarification on the use of RFID information.

Response: As suggested, paragraph F-103(e)(2) is revised to clarify that the RFID information can be added either at submission or via the “WAWF Pack Later” functionality.

D. F-104, Application

Comment: A respondent asked about the meaning of “consigned to” at F-104(a)(4) and for clarification regarding use of a continuation sheet. The respondent stated that they have no control over how the continuation sheet appears or prints from WAWF.

Response: The phrase “consigned to” is the one to whom a line item is given, transferred, or delivered for control. In regard to use of a continuation sheet, the format printed out from WAWF will suffice as long as the required contractor information is entered.

E. F-301, Preparation Instructions—General Comments

Comment: Two respondents suggested, at paragraph F-301(a)(1), replacing “contractor” with “vendor” to be consistent with the label used on the training Web site provided in the proposed rule. A respondent suggested: (1) Revising F-301(a)(2) to reflect the creation of an extension to the prime Commercial and Government Entity (CAGE); (2) replacing, at paragraph F-301(a)(4), “official DoD sites” with “DoD definitive sources”; (3). adding text at paragraph F-301(b)(1)(iii) to clarify that comments in the miscellaneous information tab will appear in the comments section of the printed WAWF receiving report; (4). changing, at paragraph F-301(b)(1)(iv), “DoD contract number” to “DoD contract number and delivery order number”; and, (5) updating paragraph F-301(b)(3) to correctly refer to the data field as “Estimated” and reflect that data entry is a drop-down box.

Response: The final rule is revised to incorporate these recommendations.

F. Inclusion of Shipping Documents

Comment: A respondent requested at paragraph F-301(b)(2)(i), SHIPMENT NO., that contractors must always provide packaging documentation in their shipment containers. If contractors choose to provide their own packaging documentation they must ensure their documentation includes their shipment number data. The respondent recommended the addition of a statement that any document utilized as a packing list must include the shipment number information. Additionally, the respondent suggested revising the text with an example to clarify that the shipment number format requires first three data positions to be alpha, fourth position alpha-numeric and last three positions are numeric e.g., DFAR001 or DAR0001.

Response: The recommendations are incorporated into the final rule.

Comment: A respondent requested at paragraph F-301(b)(3), Date Shipped, that a “MIRR clause does not identify electronic data submission timeline.” The respondent recommended the DFARS MIRR language include the statement that the contractor will submit the completed MIRR via WAWF within one business day of material shipment. The respondent stated that material shipments missing shipment numbered data causes manual research in order to process the receipt acceptance.

Response: The MIRR is completed at the time of delivery of goods or services and, for both WAWF and paper DD form 250s, copies of the MIRR accompany the shipment. Paragraph F-301(b)(3) is revised to add a reference to “see F-303).”

Comment: A respondent requested at paragraph F-305, Invoice instructions, adding a statement that contractors should ensure the packaging documentation includes a Government signed receiving report when the contract requires origin inspection and acceptance. The respondent further stated that contractors must include the signed document indicating material receipt acceptance has occurred in the container with the exception of material shipments that are approved for Alternate Release Procedures.

Response: The final rule is revised to incorporate the recommendations.

G. F-301(b)(4)—Bill of Lading Information

Comment: A respondent stated, at paragraph F-301(b)(4)(i), that bills of lading are obtained when an item is being scheduled to ship, and thus may not be available until after the item has been source inspected/accepted. The respondent recommended clearly stating that the field is not required prior to source inspection and acceptance, nor, in their opinion, should a receiving report correction be issued only for adding a bill of lading after it has been obtained. Further, the respondent suggested revising F-301(b)(4), to enter the commercial or Government bill of lading number after “BL.”

Response: Currently, the “Bill of Lading Number” field is not a mandatory field in WAWF. Additional changes to the Bill of Lading functionality may be made later on.

H. Line Haul Information Changes

Comment: One respondent suggested at paragraph F-301(b)(5), Line Haul Mode, that this is an item that may not be stated accurately until after signature, when the item is scheduled for shipment, and recommended that this field not be required prior to source inspection/acceptance.

Response: There is flexibility in WAWF regarding this entry as “Line Haul Mode” field is not a mandatory field.

I. Allow for WAWF Acceptance at “Other” Using Code “D”

Comment: Two respondents suggested that paragraph F-301(b)(6), Inspection and Acceptance Point, be changed from “WAWF allows acceptance at Other” to “WAWF allows acceptance at Other (O).” Two respondents suggested adding, that for purposes of conforming to contract, “0” is equivalent to “D”.

Response: The final rule is revised to incorporate the recommendations.

J. Marked for Codes

Comment: A respondent suggested at paragraphs F-301(b)(7), Prime Contractor/Code, F-301(b)(9), Shipped From/Code, and F-301(b)(11), Payment Will Be Made By/Code, that these codes must match the contract, however, the street address is not required to match the contract. The respondents further opined that WAWF does not require the entry of an address code in either WAWF 4.2 or 5.0, and concluded that the requirement of an address should be clarified.

Response: No clarification is needed in the rule. Contractors can fulfill contracts with shipments from their location or from subsidiaries or subcontractors. Therefore, the shipped from code doesn't necessarily need to match the contract. Further, the receiving report is used for services as well as supplies where there will be no ship-from code.

Comment: One respondent requested clarification at paragraph F-301(b)(13), Marked For/Code, concerning the “Marked For Address.” Previously, textual marking information associated with the “Marked For DoDAAC” was placed in the address lines of the “Marked For DoDAAC.” Now that DoD is moving away from paper documents, the respondent wanted confirmation to use the data fields as labeled using the code area for the “Marked For DoDAAC” and address only, and the “Mark For Rep” and “Mark For Secondary” fields used for the text information.

Response: The respondent is correct concerning use of these fields. No change to the rule is required.

K. Marked for Codes

Comment: A respondent requested revisions at paragraph F-301(b)(13) to reflect that a “Marked For Code” cannot be a CAGE code, only a DoDAAC or Military Assistance Program Address Codes.

Response: No revision is required in response to this comment since a CAGE code can be entered in the “Mark For Code” field.

L. National Stock Number Entry Requirements

Comment: A respondent recommended at paragraph F-301(b)(15)(1)(A) clarifying that in the “Type” drop-down field, that the user is to select the corresponding type for the data entered, and that if no National Stock Number or other valid “Type” is available, the word “None” may be entered for the Stock/Part Number, with a corresponding “Type” of any value other than the National Stock Number selected from the drop-down box. Another respondent stated that if the contract contains NSNs as well as other identification (e.g., part numbers), a contractor should place the NSN information in the Stock Part Number field and the remaining numbers in the line item description field.

Response: The paragraph is revised accordingly to incorporate the first recommendation. In regards to the second comment concerning NSNs as well as other identifying information, the respondent is correct in how this process works. The text is revised to ensure this meaning is understood.

M. The “Description” Field Length and Use

Comment: A respondent asked whether or not at paragraph F-301(b)(15)(ii), if exceeding 20 characters in the description field is a cause for the rejection of a receiving report. Further, the respondent requested clarification on whether or not the description refers to what is defined in the payment system as a “service” line item as opposed to a “supply” line item. A WAWF RR for a repair is for acceptance of the repair and not of the item repaired. However, repair line items are frequently defined as “supply” line items and therefore the ship-to location is the actual ship-to of the repaired item.

Response: Exceeding 20 characters in the description is not a cause for rejection of a receiving report. In response to the second comment, the respondent is correct that the description refers to the designation in the payment system as a “service” line item as opposed to a “supply” line item.

N. GFP Drop-Down Box

Comment: A respondent suggested that clarification at paragraph F-301(b)(15)(iv)(E) is required for how the text relates to the GFE drop-down box, and whether or not the drop-down box is insufficient for this situation. The correct use of GFE drop-down box needs to be fully explained. If it is not the same as the entry of “GFP” in the description text, the differences must be clarified.

Response: The drop-down GFE box is not related to this section. It is obsolete and no longer used and will be deleted in a future version of WAWF. The GFP drop-down box is sufficient for use of GFP.

O. F-301—General Comments Regarding Unit Price

Comment: Two respondents stated that at paragraph F-301(b)(18), the proposed text is identical to that used in the current Appendix F for unit price (see F-301, block 19, on current Appendix F). They further stated that this document will never be used as an invoice; thus, in their opinion, there should not be a requirement to fill in a unit price, except in the cases listed. Further, one respondent recommended at paragraph F-301(b)(18)(i) the addition of the text to clarify the handling of unit prices and property transfer. Another respondent had a concern with unit prices that were as little as twenty cents and not being accepted by the Government agency. This respondent also noted that an estimated price can be entered in the description field, but the Government contracting office expects the price entered in the price field, even though WAWF does not accept the entry the way the agency had requested. The respondent went on to state that the DFARS does not address the electronic aspect of WAWF and billing.

Response: The unit price is required. In regard to the intent of the paragraph on the WAWF initiated property transfer, the purpose is to alert the contractor that a property transfer will be generated as a result of the completion of the WAWF RR. In regard to the unit price, it is required when the clause at DFARS 252.211-7003, Item Identification and Valuation, is used; otherwise the use of the field is optional and at the discretion of the vendor. When used for item unique identification, the unit price does not necessarily reflect the billing price on the contract. The DFARS addresses electronic billing at 252.232.7003, Electronic Submission of Payment Requests and Receiving Reports. No change in the rule is required in response to these comments.

P. F-301—General Comments Regarding Contract Quality Assurance

Comment: One respondent suggested at paragraph F-301(b)(20)(ii), that the term “execute” is misleading and will cause confusion. The respondent also stated that removing the quotation marks will ensure a clear direction. The respondent further suggested at paragraphs F-301(b)(20)(iv)(A)(3) and (v) the steps described should match the actual step taken in WAWF to electronically sign the document and recommended the text be revised.

Response: The quotation marks used for the term “execute” are removed. In regard to the electronic signatures, the text has been revised accordingly to match the actual steps taken in WAWF.

Q. Comment Regarding F-301(b)(21)

Comment: One respondent suggested paragraph F-301(b)(21) should be referenced as the COMMENTS block and/or MISC INFO tab.

Response: The title is revised to incorporate “MISC. INFO” as suggested.

R. Printed Documents

Comment: One respondent recommended at paragraph F-306(b), that the text be revised to clarify that if a signed copy is required by the contractor, the contractor will print the WAWF RR only after a signature is applied by the Government Inspector or Acceptor in WAWF.

Response: This text is revised accordingly to incorporate the suggestion.

S. Part 4—General Comments

Comment: One respondent stated that in Part 4 there are multiple references to section F-301 and recommended, where appropriate, the references be updated to the corresponding F-401 reference. The respondent also suggested that at paragraph F-401(b)(2), “Starting over with 0001” cannot be used in an electronic world, and that the DD Form 250 needs to conform to the same requirement (F-301(b)(2)) as the WAWF RR.

Response: Part 4 references in the final rule are updated as required. In regard to shipment numbering, the system will not allow the shipment number to start over with 0001 as any duplication of the combined contract number, delivery order number, and shipment number results a duplication error. In these cases, WAWF requires a change in the shipment number prefix. While on a paper DD Form 250, it is possible to start over with 0001 when the series is completely used, a change in the shipment number prefix should be required for consistency. The text at F-401(b)(2) is revised to clarify this process.

T. Part 5 Comments

Comment: A respondent commented on Part 5 concerning the “alternate” release procedure. The respondent noted that all other references in the document are to “alternative” release procedure, and would like to know which is correct.

Response: The final rule is revised in Part 5 to refer to “alternative” in lieu of “alternate.”

U. WAWF Versions

Comment: A respondent stated there are a number of changes incorporated in the latest WAWF release that impact MIRR data entry. The respondent noted that changes include removal of “other” as an acceptance point and replacing it with more specific data entries for inspection, acceptance, and ship to DoDAAC codes.

Response: There is no need to change paragraph F-301(b)(6) as “Other” will remain an option for the inspection and acceptance point. DoD adopted business rules regarding the inspection, acceptance, and ship-to fields but kept the source, destination, and other inspection and acceptance points. Therefore, no change is necessary.

V. General Comments

Comment: One respondent stated that Appendix F addresses the use of the MIRR in WAWF, yet multiple types of receiving and performance transactions exist. Examples include:

○ Receiving Report.

○ Receiving Report—COMBO.

○ Invoice 2-in-1 (Services Only).

Response: Appendix F only provides instruction for use of the MIRR. Invoice 2-in-1 (services only) is used to document acceptance of services when a MIRR is not required. The COMBO transaction in WAWF allows for the vendor to do one set of data entry that is split in the system into both a receiving report, identical to the non-COMBO receiving report, and an invoice. The instructions for the data entry in the COMBO are the same as the data fields for the receiving report.

Comment: A respondent suggested at paragraph F-301 rewording to state that Electronic Document Access (EDA) will automatically populate all available and applicable contract data.

Response: This change is incorporated at F-301(a)(3) in the final rule.

Comment: A respondent stated that they had received multiple rejections of receiving reports due to a formatting issue. In one case, the receiving report was rejected due to a dash being dropped out of the line item stock number upon loading to WAWF. In the respondent's opinion, the missing dash should not be a reason for rejection. The respondent requested adding specific language to F-301(b)(15) to indicate that missing dashes are acceptable in the line item stock number.

Response: The respondent indicates a dash was missing from the part number. This changes the item identification significantly. There are no known concerns with the National Stock Number functionality.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Regulatory Flexibility Act

DoD does not expect this final rule to have a significant economic impact on a substantial number of small entities within the meaning of the Regulatory Flexibility Act, 5 U.S.C. 601, et seq. The final rule provides guidance on the preparation and use of the electronic WAWF Receiving Report which is now required for use in most contracts. Additionally, the rule addresses the WAWF capability and instructions to comply with reporting requirements for IUID and RFID data submissions. DoD has prepared a Final Regulatory Flexibility Analysis, which is summarized as follows:

The objective of the rule is to facilitate maximum use of WAWF by providing detailed guidance. DFARS Subpart 232.70, Electronic Submission and Processing of Payment Requests and Receiving Reports, prescribes policies for submitting and processing payment requests in electronic form to comply with 10 U.S.C. 2227, Electronic Submission and Processing of Claims for Contract Payments. WAWF is the DoD system for contractors to submit payment and receiving reports in an electronic format. This final rule affects all DoD contractors who are not exempt from using WAWF. Exempt classes of contracts are those that are listed under the seven categories of contracts at DFARS 232.7002, Policy. Record keeping required is limited to that necessary to properly invoice and record shipping and receiving information under Government contracts. The preparation of these records requires clerical and analytic skills to create the documents and input them into the electronic WAWF system.

The rule does not duplicate, overlap, or conflict with any other Federal rules. There are no known significant alternatives to the rule that would meet the requirements of 10 U.S.C. 2227, Electronic Submission and Processing of Claims for Contract Payments. Any impact on small business is expected to be beneficial by providing detailed use, preparation and distribution guidance for electronic submission in lieu of preparing and submitting paper invoices and receiving records.

V. Paperwork Reduction Act

The Paperwork Reduction Act (44 U.S.C. chapter 35) applies. The Appendix F information collection requirements in this rule are approved under Office of Management and Budget Control Number 0704-0248, DFARS Appendix F, Material Inspection and Receiving Report. The current approval took into consideration use of the automated WAWF system, so inclusion of the WAWF guidance into Appendix F adds no new information collection requirements.

List of Subjects in 48 CFR Appendix F to Chapter 2

Government procurement.

Mary Overstreet,
Editor, Defense Acquisition Regulations System.

Therefore, 48 CFR chapter 2 is amended by revising appendix F to read as follows:

Appendix F to Chapter 2—Material Inspection and Receiving Report

Sec.
Part 1—Introduction
F-101 General.
F-102 Applicability.
F-103 Use.
F-104 Application.
Part 2—Contract Quality Assurance On Shipments Between Contractors
F-201 Procedures.
Part 3—Preparation of the Wide Area Workflow Receiving Report (WAWF RR)
F-301 Preparation instructions.
F-302 Mode/method of shipment codes.
F-303 Consolidated shipments.
F-304 Correction instructions.
F-305 Invoice instructions.
F-306 Packing list instructions.
F-307 Receiving instructions.
Part 4—Preparation of the DD Form 250 and DD Form 250C
F-401 Preparation instructions.
F-402 Mode/method of shipment codes.
F-403 Consolidated shipments.
F-404 Multiple consignee instructions.
F-405 Correction instructions.
F-406 Invoice instructions.
F-407 Packing list instructions.
F-408 Receiving instructions.
Part 5—Distribution of Wide Area Workflow Receiving Report (WAWF RR), DD Form 250 and DD Form 250C
F-501 Distribution of WAWF RR.
F-502 Distribution of DD Form 250 and DD Form 250C.
Part 6—Preparation of the DD Form 250-1 (Loading Report)
F-601 Instructions.
Part 7—Preparation of the DD Form 250-1 (Discharge Report)
F-701 Instructions.
Part 8—Distribution of the DD Form 250-1
F-801 Distribution.F-802 Corrected DD Form 250-1.
F-802 Corrected DD Form 250-1.

Authority: 41 U.S.C. 1303 and 48 CFR chapter 1.

Part 1—Introduction

F-101 General.

(a) This appendix contains procedures and instructions for the use, preparation, and distribution of the Wide Area WorkFlow Receiving Report (WAWF RR), the DD Form 250, Material Inspection and Receiving Report (MIRR) and (DD Form 250 series equivalents) and commercial shipping/packing lists used to document Government contract quality assurance.

(b) The use of the DD Form 250 is on an exception basis (see DFARS 232.7003(a)) because use of the WAWF RR is now required by most DoD contracts. WAWF provides for electronic preparation and documentation of acceptance of supplies and services, and electronic invoicing. In addition WAWF allows the printing of a RR that can be used as a packing list or when a signed copy is required.

F-102 Applicability.

(a) DFARS 252.232-7003, Electronic Submission of Payment Requests and Receiving Reports, requires payment requests and receiving reports using WAWF in nearly all cases.

(b) The provisions of this appendix also apply to supplies or services acquired by DoD when the clause at DFARS 252.246-7000, Material Inspection and Receiving Report, is included in the contract.

(c) When DoD provides quality assurance or acceptance services for non-DoD activities, prepare a MIRR using the instructions in this appendix, unless otherwise specified in the contract.

F-103 Use.

(a) The WAWF RR and the DD Form 250 are multipurpose reports used—

(1) To provide evidence of Government contract quality assurance at origin or destination;

(2) To provide evidence of acceptance at origin, destination, or other;

(3) For packing lists;

(4) For receiving;

(5) For shipping;

(6) As a contractor invoice (the WAWF RR or DD Form 250 alone cannot be used as an invoice, however the option exists to create an invoice from the Receiving Report or a Combo (Invoice and Receiving Report) both of which minimize data entry); and

(7) As commercial invoice support.

(b) Do not use the WAWF RR or the DD Form 250 for shipments—

(1) By subcontractors, unless the subcontractor is shipping directly to the Government; or

(2) Of contract inventory. The WAWF Property Transfer document should be used for this type of shipment. Training for the preparation of this document type is available at https://wawftraining.eb.mil, under the Property Transfer and Receipt section.

(c) The contractor prepares the WAWF RR or the DD Form 250, except for entries that an authorized Government representative is required to complete. When using a paper DD Form 250, the contractor shall furnish sufficient copies of the completed form, as directed by the Government representative.

(d) Use the DD Form 250-1:

(1) For bulk movements of petroleum products by tanker or barge to cover—

(i) Origin or destination acceptance of cargo; or

(ii) Shipment or receipt of Government owned products.

(2) To send quality data to the point of acceptance in the case of origin inspection on FOB destination deliveries or preinspection at product source. Annotate the forms with the words “INSPECTED FOR QUALITY ONLY.”

(e) In addition to the above uses, the WAWF RR provides additional functionality, not provided by the paper DD Form 250 that complies with the following requirements:

(1) Item Unique Identification (IUID), when the clause at DFARS 252.211-7003, Item Identification and Valuation, is used in the contract, reporting of IUID data is required. WAWF captures the IUID data and forwards the data to the IUID registry after acceptance. WAWF can be used to report Unique Item Identifiers (UIIs) at the line item level and also UIIs embedded at the line item level.

(2) Radio Frequency Identification (RFID), when the clause at DFARS 252.211-7006, Radio Frequency Identification, is used in the contract, WAWF will capture the RFID information and forward the data to the receiving location. Using WAWF is the only way a contractor can comply with the clause to furnish RFID data via an Advance Shipping Notice (ASN). The RFID information may be added at time of submission, or via the WAWF Pack Later functionality after acceptance.

F-104 Application.

(a) WAWF RR and DD Form 250.

(1) Use the WAWF RR or DD Form 250 for delivery of contract line, subline, exhibit line, or exhibit subline items. Do not use the WAWF RR or DD Form 250 for those exhibit line or exhibit subline items on a DD Form 1423, Contract Data Requirements List, which indicate no DD Form 250 is required.

(2) If the shipped to, marked for, shipped from, mode of shipment, contract quality assurance and acceptance data are the same for more than one shipment made on the same day under the same contract, contractors may prepare one WAWF RR or DD Form 250 to cover all such shipments.

(3) If the volume of the shipment precludes the use of a single car, truck, or other vehicle, prepare a separate WAWF RR or DD Form 250 for the contents of each vehicle.

(4) When a shipment is consigned to an Air Force activity and the shipment includes items of more than one Federal supply class (FSC) or material management code (MMC), prepare a separate WAWF RR or DD Form 250 for items of each of the FSCs or MMCs in the shipment. However, the cognizant Government representative may authorize a single WAWF RR or DD Form 250, listing each of the FSCs or MMCs included in the shipment on a separate continuation sheet. The MMC appears as a suffix to the national stock number applicable to the item.

(5) Consolidation of Petroleum Shipments on a Single WAWF RR or DD Form 250.

(i) Contiguous United States. Contractors may consolidate multiple car or truck load shipments of petroleum made on the same day, to the same destination, against the same contract line item, on one WAWF RR or DD Form 250. To permit verification of motor deliveries, assign each load a load number which can be identified to the shipment number in Block 2 of the DD Form 250. Include a shipping document (commercial or Government) with each individual load showing as a minimum—

(A) The shipper;

(B) Shipping point;

(C) Consignee;

(D) Contract and line item number;

(E) Product identification;

(F) Gross gallons (bulk only);

(G) Loading temperature (bulk only);

(H) American Petroleum Institute gravity (bulk only);

(I) Identification of carrier's equipment;

(J) Serial number of all seals applied; and

(K) Signature of supplier's representative.

When acceptance is at destination, the receiving activity retains the shipping document(s) to verify the entries on the consignee copy of the DD Form 250 forwarded by the contractor (reference F-401, Table 1) before signing Block 21b.

(ii) Overseas. The same criteria as for contiguous United States applies, except the consolidation period may be extended, if acceptable to the receiving activity, shipping activity, Government finance office, and the authorized Government representative having cognizance at the contractor's facility. In addition, the contractor may include more than one contract line item in each WAWF RR or DD Form 250 if the shipped to, marked for, shipped from, mode of shipment, contract quality assurance, and acceptance data are the same for all line items.

(6) Consolidation of Coal Shipments on a Single WAWF RR or DD 250. Contractors may consolidate multiple railcar or truck shipments of coal made on the same day, to the same destination, against the same contract line items, on one WAWF RR or DD 250. To permit verification of truck deliveries, assign each load a load number which can be identified to the shipment number in Block 2 of the DD Form 250 and the analytical test report. Include a commercial shipping document with each individual truck load showing as a minimum—

(i) The shipper;

(ii) The name or names;

(iii) Location and shipping point of the mine or mines from which the coal originates;

(iv) The contract number;

(v) The exact size of the coal shipped; and

(vi) A certified weighmaster's certification of weight for the truckload.

Include a waybill with each rail shipment showing the identical information. To permit verification of rail deliveries, identify each railcar number comprising the shipment to the shipment number in Block 2 of the DD Form 250 and the analytical test report. When acceptance is at destination, the receiving activity must retain the shipping document(s) to verify the entries on the consignee copy of the DD Form 250.

(b) DD Form 250-1.

(1) Use a separate form for each tanker or barge cargo loaded.

(2) The contractor may report more than one barge in the same tow on a single form if on the same contract and consigned to the same destination.

(3) When liftings involve more than one contract, prepare separate forms to cover the portion of cargo loaded on each contract.

(4) Prepare a separate form for each product or grade of product loaded.

(5) Use a separate document for each tanker or barge cargo and each grade of product discharged.

(6) For discharge, the contractor may report more than one barge in the same tow on a single form if from the same loading source.

Part 2—Contract Quality Assurance on Shipments Between Contractors

F-201 Procedures

Follow the procedures at PGI F-201 for evidence of required Government contract quality assurance at a subcontractor's facility.

Part 3—Preparation of the Wide Area Workflow Receiving Report (WAWF RR)

F-301 Preparation instructions.

(a) General.

(1) Preparation instructions and training for the WAWF RR are available at https://wawftraining.eb.mil. The instructions on preparing a WAWF RR are part of the Vendor Training section.

(2) Prime contractors can direct subcontractors to prepare and submit documents in WAWF by giving their subcontractors access to WAWF via the creation of a Commercial and Government Entity (CAGE) extension to the prime CAGE.

(3) If the contract is in Electronic Document Access (EDA) (DoD's contract repository), then the WAWF system will automatically populate all available and applicable contract data.

(i) When source acceptance is required, WAWF will populate the “Inspect By” with the “Admin by” Department of Defense Activity Address Code (DoDAAC). The vendor shall change the DoDAAC if Government Source Inspection (GSI) is performed at other than the “Admin By.”

(ii) Any fields that have been pre-filled may be changed.

(iii) WAWF will also verify that CAGE codes are valid and active in the CCR (Central Contractor Registration), and that DoDAACs and Military Assistance Program Address Codes (MAPACs) are valid in Defense Automatic Addressing System (DAAS).

(4) WAWF will populate the address information for CAGE codes, DODAACs, and MAPACs from CCR and DAAS. These sites are the DoD definitive sources for address information. Any fields that have been pre-filled may be changed or additional information added.

(5) Do not include classified information in WAWF.

(b) Completion instructions.

(1) Contract no/delivery order No.

(i) Enter the 13-position alpha-numeric basic Procurement Instrument Identification Number (PIIN) of the contract. When applicable, enter the four-position alpha-numeric call/order serial number that is supplementary to the 13-position basic PIIN. This number is also referred to as the Supplementary Procurement Instrument Identification Number (SPIIN). Use SPIINs for (also see Subpart 204.70)—

(A) Delivery orders under indefinite-delivery type contracts;

(B) Orders under basic ordering agreements; and

(C) Calls under blanket purchase agreements.

(ii) Except as indicated in paragraph (b)(1)(iii) of this appendix, do not enter supplementary numbers used in conjunction with basic PIINs to identify—

(A) Modifications of contracts and agreements;

(B) Modifications to calls or orders; or

(C) Document numbers representing contracts written between contractors.

(iii) When shipping instructions are furnished and shipment is made before receipt of the confirming contract modification (SF 30, Amendment of Solicitation/Modification of Contract), enter a comment in the Misc. Info Tab to this effect. This will appear in the Comments section of the printed WAWF RR.

(iv) For DoD delivery orders on non-DoD contracts, enter the non-DoD contract number in the contract number field and enter the DoD contract number and, when applicable, delivery order number in the delivery order field.

(2) Shipment No.

(i) The shipment number format requires first three data positions to be alpha, fourth position alpha-numeric and last three positions numeric, e.g., DFAR001 or DAR0001. Any document used as a packing list must include the shipment number information.

(A) The prime contractor shall control and assign the shipment number prefix. The shipment number shall consist of three alphabetic characters for each “Shipped From” address. The shipment number prefix shall be different for each “Shipped From” address and shall remain constant throughout the life of the contract. The prime contractor may assign separate prefixes when shipments are made from different locations within a facility identified by one “Shipped From” address.

(B) Number the first shipment 0001 for shipments made under the contract or contract and order number from each “Shipped From” address, or shipping location within the “Shipped From” address. Consecutively number all subsequent shipments with the identical shipment number prefix. While shipments should be created sequentially they can be released and accepted out of sequence.

(1) Use alpha-numeric serial numbers when more than 9,999 numbers are required. Serially assign alpha-numeric numbers with the alpha in the first position (the letters I and O shall not be used) followed by the three-position numeric serial number. Use the following alpha-numeric sequence:

A000 through A999 (10,000 through 10,999)

B000 through B999 (11,000 through 11,999)

Z000 through Z999 (34,000 through 34,999)

(2) When this series is completely used, the shipment number prefix will have to be changed when the series is completely used. WAWF will not allow duplicate shipment numbers to be created against a contract or contract and delivery order.

(ii) Reassign the shipment number of the initial shipment where a “Replacement Shipment” is involved (see paragraph (b)(16)(iv)(F) of this appendix).

(iii) The prime contractor shall control deliveries and on the final shipment of the contract shall end the shipment number with a “Z.” Where the final shipment is from other than the prime contractor's plant, the prime contractor may elect either to—

(A) Direct the subcontractor making the final shipment to end that shipment number with a “Z”; or

(B) Upon determination that all subcontractors have completed their shipments, to correct the DD Form 250 (see F-304) covering the final shipment made from the prime contractor's plant by addition of a “Z” to that shipment number.

(iv) Contractors follow the procedures in F-305 to use commercial invoices.

(3) Date shipped. Enter the date the shipment is released to the carrier or the date the services are completed. If the shipment will be released after the date of contract quality assurance and/or acceptance, enter the estimated date of release. When the date is estimated, enter an “E” or select an “E” from the drop down menu in the “Estimated” block after the date. Do not delay submission of the WAWF RR for lack of entry of the actual shipping date. Correction of the WAWF RR is not required to show the actual shipping date (see F-303). Once the document is submitted the shipment date cannot be changed.

(4) B/L TCN. When applicable, enter—

(i) The commercial or Government bill of lading number after “B/L;” WAWF provides the capability to separately and correctly identify the Government Bill of Lading (GBL) from a Commercial Bill of Lading (CBL). An authorized user will select whether the entered bill of lading number is either a GBL number or a CBL number.

(ii) The transportation control number must be a 17 alpha/numeric digit min/max field, and WAWF provides the capability to enter two secondary transportation tracking numbers.

(5) Line haul mode. Select the Line Haul Mode of Shipment code from a drop down menu in WAWF.

(6) Inspection and acceptance point. Enter an “S” for Origin or “D” for Destination. In addition to “S” and “D,” WAWF allows acceptance at Other (O). For purposes of conforming to contract, “O” is equivalent to “D”. In WAWF, destination acceptance is performed by the “Ship to” DODAAC organization and “Other” permits the acceptance of destination documents at a location other than the “Ship to.” The goods or services will be shipped to one location and the paperwork will be routed to another location for the actual acceptance.

(7) Prime contractor/code. Enter the prime CAGE code to which the contract was awarded.

(8) Administered by/code. Enter the DoDAAC code of the contract administration office cited in the contract.

(9) Shipped from/code.

(i) Enter the CAGE or DoDAAC code of the “Shipped From” location. If it is the same as the CAGE code leave blank.

(ii) For performance of services line items which do not require delivery of items upon completion of services, enter the code of the location at which the services were performed. As mentioned in (i) above, if identical to the prime CAGE code leave blank.

(10) FOB. Enter an “S” for Origin or “D” for Destination as specified in the contract. Enter an alphabetic “O” if the “FOB” point cited in the contract is other than origin or destination.

(11) Payment will be made by/code. Enter the DoDAAC code of the payment office cited in the contract.

(12) Shipped to/code. Enter the DoDAAC, MAPAC, or CAGE code from the contract or shipping instructions.

(13) Marked for/code. Enter the code from the contract or shipping instructions. Only valid DoDAACs, MAPACs, or CAGE codes can be entered. Vendors should use the WAWF “Mark for Rep” and “Mark for Secondary” fields for textual marking information specified in the contract.

(14) Item No. Enter the item number used in the contract. Use a valid 4 or 6 character line item number under the Uniform Contract Line Item Numbering System (see 204.71). Line item numbers with 6 characters with numbers in the final two positions are not deliverable or billable.

(15) Stock/part number/description.

(i) Enter the following for each line item:

(A) The national stock number (NSN) or noncatalog number. If the contract contains NSNs as well as other identification (e.g., part numbers) the contractor should place the NSN information in the Stock Part Number field and the remaining numbers in the line item description field. The data entered in the NSN field must reflect the NSN of the material item being shipped and should be a valid NSN, 13 positions in length. In the “Type” drop-down field, select the corresponding type for the data entered. If no National Stock Number (NSN) or other valid “Type” is available, the word “NONE” may be entered for the Stock/Part Number, with a corresponding “Type” of any value other than NSN selected from the drop-down box.

(B) In the description field, if required by the contract for control purposes, enter: The make, model, serial number, lot, batch, hazard indicator, or similar description.

(C) The Military Standard Requisitioning and Issue Procedures (MILSTRIP) must be placed on the MILSTRIP Tab, not in the line item description field. Enter the MILSTRIP data for each CLIN when MILSTRIP data is identified in the contract.

(ii) For service line items, select SV for “SERVICE” in the type field followed by as short a description as is possible in the description field. Some examples of service line items are maintenance, repair, alteration, rehabilitation, engineering, research, development, training, and testing. The “Ship To” code and the “Unit” will have to be filled out. The “Shipped To” code is the destination Service Acceptor Code for WAWF. If source inspected and accepted enter the service performance location as the “Ship To” code.

(iii) For all contracts administered by the Defense Contract Management Agency, with the exception of fast pay procedures, enter the gross weight of the shipment.

(iv) In the description field enter the following as appropriate (entries may be extended through Block 20).

(A) Enter in capital letters any special handling instructions/limits for material environmental control, such as temperature, humidity, aging, freezing, shock, etc.

(B) When a shipment is chargeable to Navy appropriation 17X4911, enter the appropriation, bureau control number (BCN), and authorization accounting activity (AAA) number (e.g., 17X4911-14003-104).

(C) When the Navy transaction type code (TC), “2T” or “7T” is included in the appropriation data, enter “TC 2T” or “TC 7T.”

(D) When an NSN is required by but not cited in a contract and has not been furnished by the Government, the contractor may make shipment without the NSN at the direction of the contracting officer. Enter the authority for such shipment.

(E) When Government furnished property (GFP) is included with or incorporated into the line item, enter the letters “GFP.”

(F) On shipments of Government furnished aeronautical equipment (GFAE) under Air Force contracts, enter the assignment AERNO control number, e.g., “AERNO 60-6354.”

(G) For items shipped with missing components, enter and complete the following:

“Item(s) shipped short of the following component(s): NSN or comparable identification ____, Quantity ____, Estimated Value ____, Authority ____”

(H) When shipment is made of components which were short on a prior shipment, enter and complete the following:

“These components were listed as shortages on shipment number ____, date shipped ____”

(I) When shipments involve drums, cylinders, reels, containers, skids, etc., designated as returnable under contract provisions, enter and complete the following:

“Return to ____, Quantity ____, Item ____, Ownership (Government/contractor).”

(J) Enter the total number of shipping containers, the type of containers, and the container number(s) assigned for the shipment.

(K) On foreign military sales (FMS) shipments, enter the special markings, and FMS case identifier from the contract. Also enter the gross weight.

(L) When test/evaluation results are a condition of acceptance and are not available prior to shipment, the following note shall be entered if the shipment is approved by the contracting officer:

“Note: Acceptance and payment are contingent upon receipt of approved test/evaluation results.”

The contracting officer will advise—

(1) The consignee of the results (approval/disapproval); and

(2) The contractor to withhold invoicing pending attachment of the approved test/evaluation results.

(M) For clothing and textile contracts containing a bailment clause, enter the words “GFP UNIT VALUE.”

(N) When the initial unit incorporating an approved value engineering change proposal (VECP) is shipped, enter the following statement:

This is the initial unit delivered which incorporates VECP No. ____, Contract Modification No. ____, dated ____

(16) Quantity shipped/received.

(i) Enter the quantity shipped, using the unit of measure in the contract for payment. When a second unit of measure is used for purposes other than payment, enter the appropriate quantity in the description field.

(ii) On the final shipment of a line item of a contract containing a clause permitting a variation of quantity and an underrun condition exists, the prime contractor shall choose the Ship Advice Code “Z”. Where the final shipment is from other than the prime contractor's plant and an underrun condition exists, the prime contractor may elect to direct the subcontractor making the final shipment to choose the Ship Advice Code “Z”;

(iii) When the Government is performing destination acceptance the acceptor should enter actual quantity received in apparent good condition in the “Qty. Accepted” field of the Acceptor Line Item Tab.

(17) Unit of measure. Enter the abbreviation of the unit measure as indicated in the contract for payment. Where a second unit of measure is indicated in the contract for purposes other than payment or used for shipping purposes, enter the second unit of measure in the description field. Authorized abbreviations are listed in MIL-STD-129, Marking for Shipping and Storage and in the WAWF Unit of Measure Table Link. For example, LB for pound, SH for sheet.

(18) Unit price. The contractor may, at its option, enter unit prices on all WAWF RR copies, except as a minimum:

(i) The contractor shall enter unit prices for each item of property fabricated or acquired for the Government and delivered to a contractor as Government furnished property (GFP). Get the unit price from Section B of the contract. If the unit price is not available, use an estimate. The estimated price should be the contractor's estimate of what the items will cost the Government. When the price is estimated, enter “Estimated Unit Price” in the description field. However, if the contract has Item Unique Identification (IUID) requirements and the receiving report is being processed in WAWF the unit price represents the acquisition cost that will be passed to the IUID registry. Therefore, the unit price is required (see the clause at DFARS 252.211-7003, Item Identification and Valuation). When delivering GFP via WAWF to another contractor, WAWF will initiate a property transfer if the vendor who is initiating the WAWF RR is also registered as a vendor property shipper in WAWF and the vendor receiving the property is also a vendor property receiver in WAWF.

(ii) For clothing and textile contracts containing a bailment clause, enter the cited Government furnished property unit value as “GFP UNIT VALUE” in the description field.

(19) Amount. WAWF will calculate and populate the amount by multiplying the unit price times the quantity.

(20) Contract Quality Assurance (CQA).

(i) The words “conform to contract” contained in the text above the signature block in the WAWF RR Header Tab relate to quality and to the quantity of the items on the report. Enter notes taking exception in Misc. Info Tab comment field or on attached supporting documents with an appropriate block cross-reference.

(ii) When a shipment is authorized under an alternative release procedure, contractors will execute the alternative release procedure in WAWF by including the appropriate indicator in the electronic transaction rather than through inclusion or attachment of the text of the certificate. The alternative release procedure only provides for release of shipment; Government acceptance must still be indicated by a Government official's signature on the WAWF RR.

(iii) When contract terms provide for use of Certificate of Conformance and shipment is made under these terms, contractors will execute Certificates in WAWF by including the appropriate indicator in the electronic transaction rather than through inclusion or attachment of the text of the certificate. Government acceptance must still be indicated by a Government official's signature on the WAWF RR.

(iv) Origin.

(A) The authorized Government representative must:—

(1) Place an “X” in the appropriate CQA and/or acceptance box(es) to show origin CQA and/or acceptance; and

(2) Sign and date.

WAWF will enter the typed, stamped, or printed name, title, email address, and commercial telephone number.

(B) When fast pay procedures apply, the contractor or subcontractor shall select “FAST PAY” when creating the WAWF RR. When CQA is required, the authorized Government representative shall execute the block as required by paragraph (A).

(v) Destination. When CQA and acceptance or acceptance is at destination, the authorized Government representative must—

(A) Place an “X” in the appropriate box(es); and

(B) Sign and date.

WAWF will enter the typed, stamped, or printed name, title, email address, and commercial telephone number.

(21) Contractor use only. MISC. INFO. Self explanatory.

F-302 Mode/method of shipment codes.

Code | Description
A | Motor, truckload.
B | Motor, less than truckload.
C | Van (unpacked, uncrated personal or Government property).
D | Driveaway, truckaway, towaway.
E | Bus.
F | Air Mobility Command (Channel and Special Assignment Airlift Mission).
G | Surface parcel post.
H | Air parcel post.
I | Government trucks, for shipment outside local delivery area.
J | Air, small package carrier.
K | Rail, carload.¹
L | Rail, less than carload.¹
M | Surface, freight forwarder.
N | LOGAIR.
O | Organic military air (including aircraft of foreign governments).
P | Through Government Bill of Lading (TGBL).
Q | Commercial air freight (includes regular and expedited service provided by major airlines; charters and air taxis).
R | European Distribution System or Pacific Distribution System.
S | Scheduled Truck Service (STS) (applies to contract carriage, guaranteed traffic routings and/or scheduled service).
T | Air freight forwarder.
U | QUICKTRANS.
V | SEAVAN.
W | Water, river, lake, coastal (commercial).
X | Bearer, walk-thru (customer pickup of material).
Y | Military Intratheater Airlift Service.
Z | Military Sealift Command (MSC) (controlled contract or arranged space).
2 | Government watercraft, barge, lighter.
3 | Roll-on Roll-off (RORO) service.
4 | Armed Forces Courier Service (ARFCOS).
5 | Surface, small package carrier.
6 | Military official mail (MOM).
7 | Express mail.
8 | Pipeline.
9 | Local delivery by Government or commercial truck (includes on base transfers; deliveries between air, water, or motor terminals; and adjacent activities). Local delivery areas are identified in commercial carriers' tariffs which are filed and approved by regulatory authorities.
¹ Includes trailer/container-on-flat-car (excluding SEAVAN).

F-303 Consolidated shipments.

When individual shipments are held at the contractor's plant for authorized transportation consolidation to a single bill of lading, the contractor may prepare the WAWF RR at the time of CQA or acceptance prior to the time of actual shipment.

F-304 Correction instructions.

Functionality for correcting a WAWF RR is being developed. Preparation instructions and training for corrections will be available at https://wawftraining.eb.mil once the functionality is deployed. The instructions will be part of the vendor training.

F-305 Invoice instructions.

Contractors shall submit payment requests and receiving reports in electronic form, unless an exception in DFARS 232.7002 applies. Contractor submission of the material inspection and receiving information required by this appendix by using the WAWF electronic form (see paragraph (b) of the clause at DFARS 252.232-7003) fulfills the requirement for a DD Form 250 MIRR. Contractors should ensure the packaging documentation includes a Government signed receiving report when the contract requires origin inspection and acceptance. Contractors must include a signed document indicating material receipt and acceptance has occurred in the container with the exception of material shipments that are approved for Alternative Release Procedures (ARP).

F-306 Packing list instructions.

Contractors may also use a WAWF processed RR as a packing list. WAWF provides options to print the RR. These printed RRs may also be used if a signed copy is required.

(a) WAWF provides a print capability for its RR. The WAWF printed RR can be identified by its distinctive format and by the text “Please look in WAWF for signed copy” underneath the “RECEIVING REPORT” title at the top of each printed page. This printed copy can be used as a packing list. If needed, the signature can be verified by reviewing the signed RR in WAWF.

(b) Contractors can also print a RR from their systems (not WAWF). If such a signed copy is required by the contractor, the contractor will print the WAWF RR only after a signature is applied by the Government Inspector or Acceptor in WAWF. Copies printed will be annotated with “\\original signed in WAWF\\” in lieu of the inspector/acceptor's signature.

F-307 Receiving instructions.

If CQA and acceptance or acceptance of supplies is required upon arrival at destination, see F-301(b)(20)(v) for instructions.

Part 4—Preparation of the DD Form 250 and DD Form 250C

F-401 Preparation instructions.

(a) General.

(1) Dates must use nine spaces consisting of the four digits of the year, three-position alphabetic month abbreviation, and two digits for the day. For example, 2000AUG07, 2000SEP24.

(2) Addresses must consist of the name, street address/P.O. box, city, state, and ZIP code.

(3) Enter to the right of and on the same line as the word “Code” in Blocks 9 through 12 and in Block 14—

(i) The Commercial and Government Entity Handbook (H4/H8) code;

(ii) The DoD activity address code (DoDAAC) as it appears in the DoD Activity Address Directory (DoDAAD), DoD 4000.25-6-M; or

(iii) The Military Assistance Program Address Directory (MAPAD) code.

(4) Enter the DoDAAC, CAGE (H4/H8), or MAPAD code in Block 13.

(5) The data entered in the blocks at the top of the DD Form 250c must be identical to the comparable entries in Blocks 1, 2, 3, and 6 of the DD Form 250.

(6) Enter overflow data from the DD Form 250 in Block 16 or in the body of the DD Form 250c with an appropriate cross-reference. Do not number or distribute additional DD Form 250c sheets, solely for continuation of Block 23 data as part of the MIRR.

(7) Do not include classified information in the MIRR. MIRRs must not be classified.

(b) Completion instructions.

(1) Block 1—Procurement instrument identification (Contract) NO. See paragraph F-301(b)(1).

(2) Block 2—Shipment no. See F-301(b)(2), Shipment no. When the series is completely used, change the shipment number prefix and start with 0001.

(3) Block 3—Date shipped. Enter the date the shipment is released to the carrier or the date the services are completed. If the shipment will be released after the date of CQA and/or acceptance, enter the estimated date of release. When the date is estimated, enter an “E” after the date. Do not delay distribution of the MIRR for entry of the actual shipping date. Reissuance of the MIRR is not required to show the actual shipping date (see F-403).

(4) Block 4—B/L TCN. When applicable, enter—

(i) The commercial or Government bill of lading number after “B/L;”

(ii) The transportation control number after “TCN” (when a TCN is assigned for each line item on the DD Form 250 under Block 16 instructions, insert “See Block 16”); and

(iii) The initial (line haul) mode of shipment code in the lower right corner of the block (see F-402).

(5) Block 5—Discount terms.

(i) The contractor may enter the discount in terms of percentages on all copies of the MIRR.

(ii) Use the procedures in F-406 when the MIRR is used as an invoice.

(6) Block 6—Invoice no./date.

(i) The contractor may enter the invoice number and actual or estimated date of invoice submission on all copies of the MIRR. When the date is estimated, enter an “E” after the date. Do not correct MIRRs other than invoice copies to reflect the actual date of invoice submission.

(ii) Use the procedures in F-406 when the MIRR is used as an invoice.

(7) Block 7—Page/of. Consecutively number the pages of the MIRR. On each page enter the total number of pages of the MIRR.

(8) Block 8—Acceptance point. Enter an “S” for Origin or “D” for destination.

(9) Block 9—Prime contractor/code. Enter the code and address.

(10) Block 10—Administered by/code. Enter the code and address of the contract administration office cited in the contract.

(11) Block 11—Shipped from/code/fob.

(i) Enter the code and address of the “Shipped From” location. If identical to Block 9, enter “See Block 9.”

(ii) For performance of services line items which do not require delivery of items upon completion of services, enter the code and address of the location at which the services were performed. If the DD Form 250 covers performance at multiple locations, or if identical to Block 9, enter “See Block 9.”

(iii) Enter on the same line and to the right of “FOB” an “S” for Origin or “D” for Destination as specified in the contract. Enter an alphabetic “O” if the “FOB” point cited in the contract is other than origin or destination.

(iv) For destination or origin acceptance shipments involving discount terms, enter “DISCOUNT EXPEDITE” in at least one-half inch outline-type style letters across Blocks 11 and 12. Do not obliterate other information in these blocks.

(12) Block 12—Payment will be made by/code. Enter the code and address of the payment office cited in the contract.

(13) Block 13—Shipped to/code. Enter the code and address from the contract or shipping instructions.

(14) Block 14—Marked for/code. Enter the code and address from the contract or shipping instructions. When three-character project codes are provided in the contract or shipping instructions, enter the code in the body of the block, prefixed by “Proj”; do not enter in the Code block.

(15) Block 15—Item No. See paragraph F-301(b)(14) with the exception to F301(b)(2)(B)2 that line item numbers not in accordance with the Uniform Contract Line Item Numbering System may be entered without regard to positioning.

(16) Block 16—Stock/part No./description.

(i) Use single or double spacing between line items when there are less than four line items. Use double spacing when there are four or more line items. Enter the following for each line item:

(A) The national stock number (NSN) or noncatalog number. Where applicable, include a prefix or suffix. If a number is not provided, or it is necessary to supplement the number, include other identification such as the manufacturer's name or Federal supply code (as published in Cataloging Handbook H4-1), and the part number. Show additional part numbers in parentheses or slashes. Show the descriptive noun of the item nomenclature and if provided, the Government assigned management/material control code. The contractor may use the following technique in the case of equal kind supply items. The first entry shall be the description without regard to kind. For example, “Shoe-Low Quarter-Black,” “Resistor,” “Vacuum Tube,” etc. Below this description, enter the contract line item number in Block 15 and Stock/Part number followed by the size or type in Block 16.

(B) On the next printing line, if required by the contract for control purposes, enter: The make, model, serial number, lot, batch, hazard indicator, or similar description.

(C) On the next printing lines enter—

(1) The MIPR number prefixed by “MIPR” or the MILSTRIP requisition number(s) when provided in the contract; or

(2) Shipping instructions followed on the same line (when more than one requisition is entered) by the unit for payment and the quantity shipped against each requisition.

Example:

V04696-185-750XY19059A—EA 5

N0018801776038XY3211BA—EA 200

AT650803050051AAT6391J—EA 1000

(D) When a TCN is assigned for each line item, enter on the next line the transportation control number prefixed by “TCN.”

(ii) For service line items, enter the word “SERVICE” followed by as short a description as is possible in no more than 20 additional characters. Some examples of service line items are maintenance, repair, alteration, rehabilitation, engineering, research, development, training, and testing. Do not complete Blocks 4, 13, and 14 when there is no shipment of material.

(iii) For all contracts administered by the Defense Contract Management Agency, with the exception of fast pay procedures, enter and complete the following:

Gross Shipping Wt.

____________

State weight in pounds only.

(iv) Starting with the next line, enter the following as appropriate (entries may be extended through Block 20). When entries apply to more than one line item in the MIRR, enter them only once after the last line item entry. Reference applicable line item numbers.

(A) Enter in capital letters any special handling instructions/limits for material environmental control, such as temperature, humidity, aging, freezing, shock, etc.

(B) When a shipment is chargeable to Navy appropriation 17X4911, enter the appropriation, bureau control number (BCN), and authorization accounting activity (AAA) number (e.g., 17X4911-14003-104).

(C) When the Navy transaction type code (TC), “2T” or “7T” is included in the appropriation data, enter “TC 2T” or “TC 7T.”

(D) When an NSN is required by but not cited in a contract and has not been furnished by the Government, the contractor may make shipment without the NSN at the direction of the contracting officer. Enter the authority for such shipment.

(E) When Government furnished property (GFP) is included with or incorporated into the line item, enter the letters “GFP.”

(F) When shipment consists of replacements for supplies previously furnished, enter in capital letters “REPLACEMENT SHIPMENT.” (See F-401, Block 17, for replacement indicators.)

(G) On shipments of Government furnished aeronautical equipment (GFAE) under Air Force contracts, enter the assignment AERNO control number, e.g., “AERNO 60-6354.”

(H) For items shipped with missing components, enter and complete the following:

“Item(s) shipped short of the following component(s):

NSN or comparable identification ____, Quantity ____, Estimated Value ____, Authority ____”

(I) When shipment is made of components which were short on a prior shipment, enter and complete the following:

“These components were listed as shortages on shipment number ____, date shipped ____”

(J) When shipments involve drums, cylinders, reels, containers, skids, etc., designated as returnable under contract provisions, enter and complete the following:

“Return to ____, Quantity ____, Item ____, Ownership (Government/contractor).”

(K) Enter the total number of shipping containers, the type of containers, and the container number(s) assigned for the shipment.

(L) On foreign military sales (FMS) shipments, enter the special markings, and FMS case identifier from the contract. Also enter the gross weight.

(M) When test/evaluation results are a condition of acceptance and are not available prior to shipment, the following note shall be entered if the shipment is approved by the contracting officer:

“Note: Acceptance and payment are contingent upon receipt of approved test/evaluation results.”

The contracting officer will advise—

(1) The consignee of the results (approval/disapproval); and

(2) The contractor to withhold invoicing pending attachment of the approved test/evaluation results.

(N) The copy of the DD Form 250 required to support payment for destination acceptance (top copy of those with shipment) or ARP origin acceptance shall be identified as follows: enter “PAYMENT COPY” in approximately one-half inch outline type style letters with “FORWARD TO BLOCK 12 ADDRESS” in approximately one-quarter inch letters immediately below. Do not obliterate any other entries.

(O) For clothing and textile contracts containing a bailment clause, enter the words “GFP UNIT VALUE.”

(P) When the initial unit incorporating an approved value engineering change proposal (VECP) is shipped, enter the following statement:

This is the initial unit delivered which incorporates VECP No. ____, Contract Modification No. ____, dated ____

(17) Block 17—Quantity shipped/received.

(i) Enter the quantity shipped, using the unit of measure in the contract for payment. When a second unit of measure is used for purposes other than payment, enter the appropriate quantity directly below in parentheses.

(ii) On the final shipment of a line item of a contract containing a clause permitting a variation of quantity and an underrun condition exists, the prime contractor shall enter a “Z” below the last digit of the quantity. Where the final shipment is from other than the prime contractor's plant and an underrun condition exists, the prime contractor may elect either to—

(A) Direct the subcontractor making the final shipment to enter a “Z” below the quantity; or

(B) Upon determination that all subcontractors have completed their shipments, correct the DD Form 250 (see F-405) coving the final shipment of the line item from the prime contractor's plant by addition of a “Z” below the quantity. Do not use the “Z” on deliveries which equal or exceed the contract line item quantity.

(iii) For replacement shipments, enter “A” below the last digit of the quantity, to designate first replacement, “B” for second replacement, etc. Do not use the final shipment indicator “Z” on underrun deliveries when a final line item shipment is replaced.

17. QUANTITY

SHIP/REC'D

1000

(10)

Z

(iv) If the quantity received is the same quantity shipped and all items are in apparent good condition, enter by a check mark. If different, enter actual quantity received in apparent good condition below quantity shipped and circle. The receiving activity will annotate the DD Form 250 stating the reason for the difference.

(18) Block 18—Unit. Enter the abbreviation of the unit measure as indicated in the contract for payment. Where a second unit of measure is indicated in the contract for purposes other than payment or used for shipping purposes, enter the second unit of measure directly below in parentheses. Authorized abbreviations are listed in MIL-STD-129, Marking for Shipping and Storage. For example, LB for pound, SH for sheet.

18. UNIT
LB
(SH)

(19) Block 19—Unit price. The contractor may, at its option, enter unit prices on all MIRR copies, except as a minimum:

(i) The contractor shall enter unit prices on all MIRR copies for each item of property fabricated or acquired for the Government and delivered to a contractor as Government furnished property (GFP). Get the unit price from Section B of the contract. If the unit price is not available, use an estimate. The estimated price should be the contractor's estimate of what the items will cost the Government. When the price is estimated, enter an “E” after the unit price.

(ii) Use the procedures in F-406 when the MIRR is used as an invoice.

(iii) For clothing and textile contracts containing a bailment clause, enter the cited Government furnished property unit value opposite “GFP UNIT VALUE” entry in Block 16.

(iv) Price all copies of DD Forms 250 for FMS shipments with actual prices, if available. If actual price are not available, use estimated prices. When the price is estimated, enter an “E” after the price.

(20) Block 20—AMOUNT. Enter the extended amount when the unit price is entered in Block 19.

(21) Block 21—Contract quality assurance (CQA).

(i) The words “conform to contract” contained in the printed statements in Blocks 21a and 21b relate to quality and to the quantity of the items on the report. Do not modify the statements. Enter notes taking exception in Block 16 or on attached supporting documents with an appropriate block cross-reference.

(ii) When a shipment is authorized under alternative release procedure, attach or include the appropriate contractor signed certificate on the top copy of the DD Form 250 copies distributed to the payment office or attach or include the appropriate contractor certificate on the contract administration office copy when contract administration (Block 10 of the DD Form 250) is performed by the Defense Contract Management Agency.

(iii) When contract terms provide for use of Certificate of Conformance and shipment is made under these terms, the contractor shall enter in capital letters “CERTIFICATE OF CONFORMANCE” in Block 21a on the next line following the CQA and acceptance statements. Attach or include the appropriate contractor signed certificate on the top copy of the DD Form 250 copies distributed to the payment office or attach or include the appropriate certificate on the contract administration office copy when contract administration (Block 10 of the DD Form 250) is performed by the Defense Contract Management Agency. In addition, attach a copy of the signed certificate to, or enter on, copies of the MIRR sent with shipment.

(iv) Origin.

(A) The authorized Government representative must—

(1) Place an “X” in the appropriate CQA and/or acceptance box(es) to show origin CQA and/or acceptance. When the contract requires CQA at destination in addition to origin CQA, enter an asterisk at the end of the statement and an explanatory note in Block 16;

(2) Sign and date;

(3) Enter the typed, stamped, or printed name, title, mailing address, and commercial telephone number.

(B) When alternative release procedures apply—

(1) The contractor or subcontractor shall complete the entries required under paragraph (A) and enter in capital letters “ALTERNATIVE RELEASE PROCEDURE” on the next line following the printed CQA/acceptance statement.

(2) When acceptance is at origin and contract administration is performed by an office other than the Defense Contract Management Agency, the contractor shall furnish the four payment office copies of the MIRR to the authorized Government representative for dating and signing of one copy and forwarding of all copies to the payment office.

(3) When acceptance is at origin and contract administration is performed by the Defense Contract Management Agency, furnish the contract administration office copy of the MIRR to the authorized Government representative for dating and signing and forwarding to the contract administration office (see F-501, Table 1).

(C) When fast pay procedures apply, the contractor or subcontractor shall enter in capital letters “FAST PAY” on the next line following the printed CQA/acceptance statement. When CQA is required, the authorized Government representative shall execute the block as required by paragraph (A).

(D) When Certificate of Conformance procedures apply, inspection or inspection and acceptance are at source, and the contractor's Certificate of Conformance is required, the contractor shall enter in capital letters “CERTIFICATE OF CONFORMANCE” as required by paragraph (b)(21)(iii) of this appendix.

(1) For contracts administered by an office other than the Defense Contract Management Agency, furnish the four payment office copies of the MIRR to the authorized Government representative for dating and signing of one copy, and forwarding of all copies to the payment office.

(2) For contracts administered by the Defense Contract Management Agency, furnish the contract administration office copy of the MIRR to the authorized Government representative for dating and signing and forwarding to the contract administration office (see F-401, Table 1).

(3) When acceptance is at destination, no entry shall be made other than “CERTIFICATE OF CONFORMANCE.”

(v) Destination.

(A) When acceptance at origin is indicated in Block 21a, make no entries in Block 21b.

(B) When CQA and acceptance or acceptance is at destination, the authorized Government representative must—

(1) Place an “X” in the appropriate box(es);

(2) Sign and date; and

(3) Enter typed, stamped, or printed name, title, mailing address, and commercial telephone number.

(C) When “ALTERNATIVE RELEASE PROCEDURE” is entered in Block 21a and acceptance is at destination, the authorized Government representative must complete the entries required by paragraph (b)(21)(v)(B) of this appendix.

(D) Forward the executed payment copy or MILSCAP format identifier PKN or PKP to the payment office cited in Block 12 within four work days (five days when MILSCAP Format is used) after delivery and acceptance of the shipment by the receiving activity. Forward one executed copy of the final DD Form 250 to the contract administration office cited in Block 10 for implementing contract closeout procedures.

(E) When “FAST PAY” is entered in Block 21a, make no entries in this block.

(22) Block 22—Receiver's use. The authorized representative of the receiving activity (Government or contractor) must use this block to show receipt, quantity, and condition. The authorized representative must—

(i) Enter the date the supplies arrived. For example, when off-loading or in-checking occurs subsequent to the day of arrival of the carrier at the installation, the date of the carrier's arrival is the date received for purposes of this block;

(ii) Sign; and

(iii) Enter typed, stamped, or printed name, title, mailing address, and commercial telephone number.

(23) Block 23—Contractor use only. Self explanatory.

F-402 Mode/method of shipment codes.

See paragraph F-302.

F-403 Consolidated shipments.

When individual shipments are held at the contractor's plant for authorized transportation consolidation to a single bill of lading, the contractor may prepare the DD Forms 250 at the time of CQA or acceptance prior to the time of actual shipment (see Block 3).

F-404 Multiple consignee instructions.

The contractor may prepare one MIRR when the identical line item(s) of a contract are to be shipped to more than one consignee, with the same or varying quantities, and the shipment requires origin acceptance. Prepare the MIRR using the procedures in this appendix with the following changes:

(a) Blocks 2, 4, 13, and, if applicable, 14—Enter “See Attached Distribution List.”

(b) Block 15—The contractor may group item numbers for identical stock/part number and description.

(c) Block 17—Enter the “total” quantity shipped by line item or, if applicable, grouped identical line items.

(d) Use the DD Form 250c to list each individual “Shipped To” and “Marked For” with—

(1) Code(s) and complete shipping address and a sequential shipment number for each;

(2) Line item number(s);

(3) Quantity;

(4) MIPR number(s), preceded by “MIPR,” or the MILSTRIP requisition number, and quantity for each when provided in the contract or shipping instructions; and

(5) If applicable, bill of lading number, TCN, and mode of shipment code.

(e) The contractor may omit those distribution list pages of the DD Form 250c that are not applicable to the consignee. Provide a complete MIRR for all other distribution.

F-405 Correction instructions.

Make a new revised MIRR or correct the original when, because of errors or omissions, it is necessary to correct the MIRR after distribution has been made. Use data identical to that of the original MIRR. Do not correct MIRRs for Blocks 19 and 20 entries. Make the corrections as follows—

(a) Circle the error and place the corrected information in the same block; if space is limited, enter the corrected information in Block 16 referencing the error page and block. Enter omissions in Block 16 referencing omission page and block. For example—

2. SHIPMENT NO. | 17. QUANTITY
| SHIP/REC'D
(AAA0001) |
| 19
See Block 16 | (17)
__________ | __________
16. STOCK/PART NO. DESCRIPTION
CORRECTIONS:
Refer Block 2: Change shipment No. AAA001 to AAA0010 on all pages of the MIRR.
Refer Blocks 15, 16, 17, and 18, page 2: Delete in entirety Line Item No. 0006. This item was not shipped.

(b) When corrections have been made to entries for line items (Block 15) or quantity (Block 17), enter the words “CORRECTIONS HAVE BEEN VERIFIED” on page 1. The authorized Government representative will date and sign immediately below the statement. This verification statement and signature are not required for other corrections.

(c) Clearly mark the pages of the MIRR requiring correction with the words “CORRECTED COPY.” Avoid obliterating any other entries. Where corrections are made only on continuation sheets, also mark page number 1 with the words “CORRECTED COPY.”

(d) Page 1 and only those continuation pages marked “CORRECTED COPY” shall be distributed to the initial distribution. A complete MIRR with corrections shall be distributed to new addressee(s) created by error corrections.

F-406 Invoice instructions.

(a) Contractors shall submit payment requests and receiving reports in electronic form, unless an exception in DFARS 232.7002 applies. Contractor submission of the material inspection and receiving information required by this appendix by using the WAWF electronic form (see paragraph (b) of the clause at DFARS 252.232-7003) fulfills the requirement for an MIRR.

(b) If the contracting officer authorizes the contractor to submit an invoice in paper form, the Government encourages, but does not require, the contractor to use the MIRR as an invoice, in lieu of a commercial form. If commercial forms are used, identify the related MIRR shipment number(s) on the form. If using the MIRR as an invoice, prepare the MIRR and forward the required number of copies to the payment office as follows:

(1) Complete Blocks 5, 6, 19, and 20. Block 6 shall contain the invoice number and date. Column 20 shall be totaled.

(2) Mark in letters approximately one inch high, first copy: “ORIGINAL INVOICE,” for all invoice submissions; and three copies: “INVOICE COPY,” when the payment office requires four copies. Questions regarding the appropriate number of copies (i.e., one or four) should be directed to the applicable payment office.

(3) Forward the appropriate number of copies to the payment office (Block 12 address), except when acceptance is at destination and a Navy finance office will make payment, forward to destination.

(4) Separate the copies of the MIRR used as an invoice from the copies of the MIRR used as a receiving report.

F-407 Packing list instructions.

Contractors may use copies of the MIRR as a packing list. The packing list copies are in addition to the copies of the MIRR required for standard distribution (see F-501). Mark them “PACKING LIST.”

F-408 Receiving instructions.

When the MIRR is used for receiving purposes, local directives shall prescribe procedures. If CQA and acceptance or acceptance of supplies is required upon arrival at destination, see F-401(b)(21)(v) for instructions.

PART 5—Distribution of Wide Area Workflow Receiving Report (WAWF RR), DD Form 250 and DD Form 250C

F-501 Distribution of WAWF RR.

Use of the WAWF electronic form satisfies the distribution requirements of this section, except for the copies required to accompany shipment.

F-502 Distribution of DD FORM 250 AND DD FORM 250C.

(a) The contractor is responsible for distributing the DD Form 250, Material Inspection and Receiving Report (MIRR) including mailing and payment of postage.

(b) Contractors shall distribute MIRRs using the instructions in Tables 1 and 2.

(c) Contractors shall distribute MIRRs on non-DoD contracts using this appendix as amended by the contract.

(d) Contractors shall make distribution promptly, but no later than the close of business of the work day following—

(1) Signing of the DD Form 250 (Block 21a) by the authorized Government representative; or

(2) Shipment when authorized under terms of alternative release, certificate of conformance, or fast pay procedures; or

(3) Shipment when CQA and acceptance are to be performed at destination.

(e) Do not send the consignee copies (via mail) on overseas shipments to port of embarkation (POE). Send them to consignee at APO/FPO address.

(f) Copies of the MIRR forwarded to a location for more than one recipient shall clearly identify each recipient.

Material Inspection And Receiving Report

Table 1—Standard Distribution
With Shipment* | 2
Consignee (via mail) | 1
(For Navy procurement, include unit price) |
(For foreign military sales, consignee copies are not required) |
Contract Administration Office (CAO) | 1
(Forward direct to address in Block 10 except when addressee is a Defense Contract Management Agency (DCMA) office and a certificate of conformance or the alternative release procedures (see F-301, Block 21) is involved, and acceptance is at origin; then, forward through the authorized Government representative.) |
Purchasing Office | 1
Payment Office ** | 2
(Forward direct to address in Block 12 except— |
(i) When address in Block 10 is a DCMA office and payment office in Block 12 is the Defense Finance and Accounting Service, Columbus Center, do not make distribution to the Block 12 addressee;
(ii) When address in Block 12 is the Defense Finance and Accounting Service, Columbus Center/Albuquerque Office (DFAS-CO/ALQ), Kirtland AFB, NM, attach only one copy to the required number of copies of the contractor's invoice;
(iii) When acceptance is at destination and a Navy finance office will make payment, forward to destination; and
(iv) When a certificate of conformance or the alternative release procedures (see F-301, Block 21) are involved and acceptance is at origin, forward the copies through the authorized Government representative.
ADP Point for CAO (applicable to Air Force only) | 1
(When DFAS-CO/ALQ is the payment office in Block 12, send one copy to DFAS-CO/ALQ immediately after signature. If submission of delivery data is made electronically, distribution of this hard copy need not be made to DFAS-CO/ALQ.) |
CAO of Contractor Receiving GFP | 1
(For items fabricated or acquired for the Government and shipped to a contractor as Government furnished property, send one copy directly to the CAO cognizant of the receiving contractor, ATTN: Property Administrator (see DoD 4105.59-H).) |
* Attach as follows:
** Payment by Defense Finance and Accounting Service, Columbus Center will be based on the source acceptance copies of DD Forms 250 forwarded to the contract administration office.

Type of shipment | Location
Carload or truckload | Affix to the shipment where it will be readily visible and available upon receipt.
Less than carload or truckload | Affix to container number one or container truckload bearing lowest number.
Mail, including parcel post | Attach to outside or include in the package. Include a copy in each additional package of multi-package shipments.
Pipeline, tank car, or railroad cars for coal movements | Forward with consignee copies.

Material Inspection and Receiving Report Table 2—Special Distribution
As required | Address | Number of copies
Each: Navy Status Control Activity, Army, Air Force, DLA Inventory Control Manager | Address specified in contract | * 1
Quality Assurance Representative | Address specified by the assigned quality assurance representative | 1
Transportation Office issuing GBL (attach to GBL memorandum copy) | CAO address unless otherwise specified in the contract | 1
Purchasing Office other than office issuing contract | Address specified in the contract | 1
Foreign Military Sales Representative | Address specified in the contract | 8
Military Assistance Advisory Group (Grant Aid shipments) | U.S. Military Advisory Group, Military Attache, Mission, or other designated agency address as specified in the contract | 1
Army Foreign Military Sales | Commander, U.S. Army Security Assistance Command, ATTN: AMSAC-OL, 54 “M” Avenue, Suite 1, New Cumberland, PA 17070-5096 | 1
Air Force On shipments of new production of aircraft and missiles, class 1410 missiles, 1510 aircraft (fixed wing, all types), 1520 aircraft (rotary wing), 1540 gliders, 1550 target drones | HQ Air Force Materiel Command, LGX-AVDO, Area A, Building 262, Room N142, 4375 Chidlaw Road, Wright-Patterson AFB, OH 45433-5006 | 1
When above items are delivered to aircraft modification centers | DCMA | 1
Foreign Military Sales/Military Assistance Program (Grant Aid) shipments to Canada | National Defence Headquarters, Ottawa, Ontario Canada, K1A OK4 ATTN: DPSUPS3 | 1
Other than Canada | Address in the contract | 1
When consignee is an Air National Guard Activity | Consignee address (Block 13), ATTN: Property Officer | 3
Navy
Navy Foreign Military Sales | Naval Inventory Control Point Deputy Commander for International Programs (NAVICP Code P761), 700 Robbins Avenue, Philadelphia, PA 19111-5095 | 2
When typed code (TC) 2T or 7T is shown in Block 16, or when shipment is consigned to another contractor's plant for a Government representative or when Block 16 indicates shipment includes GFP | Naval Inventory Control Point (Code 0142) for aviation type material, 700 Robbins Avenue, Philadelphia, PA 19111-5098 and Naval Inventory Control Point (Code 0143) for all other material 5450 Carlisle Pike, PO Box 2020, Mechanicsburg, PA 17055-0788 | 2
Bulk Petroleum Shipments | Cognizant Defense Fuel Region (see Table 4) | 1
* Each addressee.

Part 6—Preparation of the DD Form 250-1 (Loading Report)

F-601 Instructions.

Prepare the DD Form 250-1 using the following instructions when applied to a tanker or barge cargo lifting. If space is limited, use abbreviations. The block numbers correspond to those on the form.

(a) Block 1—Tanker/barge. Line out “TANKER” or “BARGE” as appropriate and place an “X” to indicate loading report.

(b) Block 2—Inspection office. Enter the name and location of the Government office conducting the inspection.

(c) Block 3—Report No. Number each form consecutively, starting with number 1, to correspond to the number of shipments made against the contract. If shipment is made from more than one location against the same contract, use this numbering system at each location.

(d) Block 4—Agency placing order on shipper, city, state and/or local address (loading). Enter the applicable Government activity.

(e) Block 5—Department. Enter military department owning product being shipped.

(f) Block 6—Prime contract or P.O. No. Enter the contract or purchase order number.

(g) Block 7—Name of prime contractor, city, state and/or local address (loading). Enter the name and address of the contractor as shown in the contract.

(h) Block 8—Storage contract. Enter storage contract number if applicable.

(i) Block 9—Terminal or refinery shipped from, city, state and/or local address. Enter the name and location of the contractor facility from which shipment is made. Also enter delivery point in this space as either “FOB Origin” or “FOB Destination.”

(j) Block 10—Order No. on supplier. Enter number of the delivery order, purchase order, subcontract or suborder placed on the supplier.

(k) Block 11—Shipped to: (receiving activity, city, state and/or local address). Enter the name and geographical address of the consignee as shown on the shipping order.

(l) Block 12—B/L number. If applicable, enter the initials and number of the bill of lading. If a commercial bill of lading is later authorized to be converted to a Government bill of lading, show “Com. B/L to GB/L.”

(m) Block 13—Reqn. or request No. Enter number and date from the shipping instructions.

(n) Block 14—Cargo No. Enter the cargo number furnished by the ordering office.

(o) Block 15—Vessel. Enter the name of tanker or barge.

(p) Block 16—Draft arrival. Enter the vessel's draft on arrival.

(q) Block 17—Draft sailing. Enter the vessel's draft on completion of loading.

(r) Block 18—Previous two cargoes. Enter the type of product constituting previous two cargoes.

(s) Block 19—Prior inspection. Leave blank.

(t) Block 20—Condition of shore pipeline. Enter condition of line (full or empty) before and after loading.

(u) Block 21—Appropriation (loading). Enter the appropriation number shown on the contract, purchase order or distribution plan. If the shipment is made from departmentally owned stock, show “Army, Navy, or Air Force (as appropriate) owned stock.”

(v) Block 22—Contract item no. Enter the contract item number applicable to the shipment.

(w) Block 23—Product. Enter the product nomenclature and grade as shown in the contract or specification, the stock or class number, and the NATO symbol.

(x) Block 24—Specifications. Enter the specification and amendment number shown in the contract.

(y) Block 25—Statement of quantity. Enter in the “LOADED” column, the net barrels, net gallons, and long tons for the cargo loaded. NOTE: If more than ½ of 1 percent difference exists between the ship and shore quantity figures, the contractor shall immediately investigate to determine the cause of the difference. If necessary, prepare corrected documents; otherwise, put a statement in Block 28 as to the probable or actual cause of the difference.

(z) Block 26—Statement of quality.

(1) Under the heading “TESTS” list all inspection acceptance tests of the specification and any other quality requirements of the contract.

(2) Under the heading “SPECIFICATION LIMITS” list the limits or requirements as stated in the specification or contract directly opposite each entry in the “TESTS” column. List waivers to technical requirements.

(3) Under the heading “TEST RESULTS” list the test results applicable to the storage tank or tanks from which the cargo was lifted. If more than one storage tank is involved, list the tests applicable to each tank in separate columns headed by the tank number, the date the product in the tank was approved, and the quantity loaded from the tank. Each column shall also list such product characteristics as amount and type of corrosion inhibitor, etc.

(aa) Block 27—Time statement. Line out “DISCHARGE” and “DISCHARGING.” Complete all applicable entries of the time statement using local time. Take these dates and times from either the vessel or shore facility log. The Government representative shall ensure that the logs are in agreement on those entries used. If the vessel and shore facility logs are not in agreement, the Government representative will explain the reasons in Block 28—REMARKS. Do not enter the date and time the vessel left berth on documents placed aboard the vessel. The date and time shall appear on all other copies. Express all dates in sequence of day, month, and year with the month spelled out or abbreviated (e.g., 10 Sept. 67). The term FINISHED BALLAST DISCHARGE is meant to include all times needed to complete deballasting and mopping/drying of ship's tanks. The inspection of ship's tanks for loading is normally performed immediately upon completion of drying tanks.

(bb) Block 28—Remarks. Use this space for reporting:

(1) All delays, their cause and responsible party (vessel, shore facility, Government representative, or other).

(2) Details of loading abnormalities such as product losses due to overflow, leaks, delivery of product from low level in shore tanks, etc.

(3) In the case of multiple consignees, enter each consignee, the amount consigned to each, and if applicable, the storage contract numbers appearing on the delivery order.

(4) When product title is vested in the U.S. Government, insert in capital letters “U.S. GOVERNMENT OWNED CARGO.” If title to the product remains with the contractor and inspection is performed at source with acceptance at destination, insert in capital letters “CONTRACTOR OWNED CARGO.”

(5) Seal numbers and location of seals. If space is not adequate, place this information on the ullage report or an attached supplemental sheet.

(cc) Block 29—Company or receiving terminal. Line out “OR RECEIVING TERMINAL” and get the signature of the supplier's representative.

(dd) Block 30—Certification by government representative. Line out “discharged.” The Government representative shall date and sign the form to certify inspection and acceptance, as applicable, by the Government. The name of the individual signing this certification, as well as the names applied in Blocks 29 and 31, shall be typed or hand lettered. The signature in Block 30 must agree with the typed or lettered name to be acceptable to the paying office.

(ee) Block 31—Certification by master or agent. Obtain the signature of the master of the vessel or its agent.

Part 7—Preparation of the DD Form 250-1 (Discharge Report)

F-701 Instructions.

Prepare the DD Form 250-1 using the following instructions when applied to a tanker or barge discharge. If space is limited, use abbreviations. The block numbers correspond to those on the form.

(a) Block 1—Tanker/barge. Line out “TANKER” or “BARGE” as applicable and place an “X” to enter discharge report.

(b) Block 2—Inspection office. Enter Government activity performing inspection on the cargo received.

(c) Block 3—Report No. Leave blank.

(d) Block 4—Agency placing order on shipper, city, state and/or local address (loading). Enter Government agency shown on loading report.

(e) Block 5—Department. Enter Department owning product being received.

(f) Block 6—Prime contract or P.O. No. Enter the contract or purchase order number shown on the loading report.

(g) Block 7—Name of prime contractor, city, state and/or local address (loading). Enter the name and location of contractor who loaded the cargo.

(h) Block 8—Storage contract. Enter the number of the contract under which material is placed in commercial storage where applicable.

(i) Block 9—Terminal or refinery shipped from, city, state and/or local address. Enter source of cargo.

(j) Block 10—Order No. on supplier. Make same entry appearing on loading report.

(k) Block 11—Shipped to: (RECEIVING ACTIVITY, CITY, STATE AND/OR LOCAL ADDRESS). Enter receiving activity's name and location.

(l) Block 12—B/L number. Enter as appears on loading report.

(m) Block 13—Reqn. or request No. Leave blank.

(n) Block 14—Cargo No. Enter cargo number shown on loading report.

(o) Block 15—Vessel. Enter name of tanker or barge discharging cargo.

(p) Block 16—Draft arrival. Enter draft of vessel upon arrival at dock.

(q) Block 17—Draft sailing. Enter draft of vessel after discharging.

(r) Block 18—Previous two cargoes. Leave blank.

(s) Block 19—Prior inspection. Enter the name and location of the Government office which inspected the cargo loading.

(t) Block 20—Condition of shore pipeline. Enter condition of line (full or empty) before and after discharging.

(u) Block 21—Appropriation (loading). Leave blank.

(v) Block 22—Contract item No. Enter the item number shown on the loading report.

(w) Block 23—Product. Enter information appearing in Block 23 of the loading report.

(x) Block 24—Specifications. Enter information appearing in Block 24 of the loading report.

(y) Block 25—Statement of quantity. Enter applicable data in proper columns.

(1) Take “LOADED” figures from the loading report.

(2) Determine quantities discharged from shore tank gauges at destination.

(3) If a grade of product is discharged at more than one point, calculate the loss or gain for that product by the final discharge point.

Report amounts previously discharged on discharge reports prepared by the previous discharge points. Transmit volume figures by routine message to the final discharge point in advance of mailed documents to expedite the loss or gain calculation and provide proration data when more than one department is involved.

(4) The loss or gain percentage shall be entered in the “PERCENT” column followed by “LOSS” or “GAIN,” as applicable.

(5) On destination acceptance shipments, accomplish the “DISCHARGED” column only, unless instructed to the contrary.

(z) Block 26—Statement of quality.

(1) Under the heading “TESTS” enter the verification tests performed on the cargo preparatory to discharge.

(2) Under “SPECIFICATION LIMITS” enter the limits, including authorized departures (if any) appearing on the loading report, for the tests performed.

(3) Enter the results of tests performed under the heading “TEST RESULTS.”

(aa) Block 27—Time statement. Line out “LOAD” and “LOADING.” Complete all applicable entries of the time statement using local time. Take the dates and times from either the vessel or shore facility log. The Government representative shall ensure that these logs are in agreement with entries used. If the vessel and shore facility logs are not in agreement, the Government representative will explain the reason(s) in Block 28—REMARKS. Do not enter the date and time the vessel left berth on documents placed aboard the vessel. The date and time shall appear on all other copies. Express all dates in sequence of day, month, and year with the month spelled out or abbreviated (e.g., 10 Sept. 67).

(bb) Block 28—Remarks. Use this space for reporting important facts such as:

(1) Delays, their cause, and responsible party (vessel, shore facility, Government representative, or others).

(2) Abnormal individual losses contributing to the total loss. Enter the cause of such losses as well as actual or estimated volumes involved. Such losses shall include, but not be restricted to, product remaining aboard (enter tanks in which contained), spillages, line breaks, etc. Note where gravity group change of receiving tank contents results in a fictitious loss or gain. Note irregularities observed on comparing vessel ullages obtained at loading point with those at the discharge point if they indicate an abnormal transportation loss or contamination.

(cc) Block 29—Company or receiving terminal. Line out “COMPANY OR.” Secure the signature of a representative of the receiving terminal.

(dd) Block 30—Certification by government representative. Line out “loaded.” The Government representative shall date and sign the form to certify inspection and acceptance, as applicable, by the Government. The name of the individual signing the certification as well as the names applied in Blocks 29 and 31 shall be typed or hand lettered on the master or all copies of the form. The signature in Block 30 must agree with the typed or lettered name to be acceptable to the paying office.

(ee) Block 31—Certification by master or agent. Obtain the signature of the master of the vessel or the vessel's agent.

Part 8—Distribution of the DD Form 250-1

F-801 Distribution.

Follow the procedures at PGI F-801 for distribution of DD Form 250-1.

F-802 Corrected DD Form 250-1.

Follow the procedures at PGI F-802 when corrections to DD Form 250-1 are needed.

[FR Doc. 2011-23958 Filed 9-19-11; 8:45 am]

BILLING CODE 5001-08-P